RAILROAD RETIREMENT BOARD

Sunshine Act Meetings

TIME AND DATE: 10:00 a.m., March 1, 2023.

PLACE: Members of the public wishing to attend the meeting must submit a written request at least 24 hours prior to the meeting to receive dial-in information. All requests must be sent to SecretarytotheBoard@rrb.gov.

STATUS: This meeting will be open to the public.

MATTERS TO BE CONSIDERED:

1. Status of Board Appeals.

2. Highlights of IT Plan and deliverables.

CONTACT PERSON FOR MORE INFORMATION: Stephanie Hillyard, Secretary to the Board, (312) 751-4920.

Authority: 5 U.S.C. 552b.

Dated: February 14, 2023.
Stephanie Hillyard,
Secretary to the Board.

[FR Doc. 2023-03414 Filed 2-14-23; 4:15 pm]

BILLING CODE 7905-01-P